EQUAL EMPLOYMENT OPPORTUNITY COMMISSION

Agency Information Collection Activities; Elementary-Secondary Staff Information Report; Cancellation of Hearing

AGENCY: Equal Employment Opportunity Commission.

ACTION: Cancellation of hearing.

SUMMARY: Notice is hereby given that the Commission is cancelling the public hearing on the above proposed information collection—extension without change: The Elementary-Secondary Staff Information Report (EEO-5). (77 FR 65548, October 29, 2012). No requests to present oral testimony at a hearing concerning the information collection were received from the public. Therefore, it will not be necessary to hold the hearing.

FOR FURTHER INFORMATION CONTACT: Ronald Edwards, Director, Program, Research and Surveys Division, 131 M Street NE., Room 4SW30F, Washington, DC 20507; (202) 663-4949 (voice) or (202) 663-7063 (TTY).

For the Commission.
Dated: January 31, 2013.
Jacqueline A. Berrien,
Chair.

[FR Doc. 2013-02744 Filed 2-6-13; 8:45 am]

BILLING CODE 6570-01-P